DEPARTMENT OF THE INTERIOR

Bureau of Indian Affairs

Education Facilities Replacement Construction Priority List as of FY 2003

AGENCY: Bureau of Indian Affairs, Interior.

ACTION: Notice.

SUMMARY: As required by statute, the Bureau of Indian Affairs (BIA or Bureau) is publishing the FY 2003 Education Facilities Replacement Construction Priority List in the Federal Register. The current priority list, last published in the Federal Register on January 9, 2001, is revised by the addition of newly prioritized schools, which were evaluated and ranked during the 2001 replacement school application process. The Bureau will use this list to determine the order in which Congressional appropriations are requested to fund education facilities replacement construction projects. Construction funding is not yet available for all projects on the list.

FOR FURTHER INFORMATION CONTACT: Questions regarding the Education Facilities Replacement Construction Priority List may be submitted to the attention of Andrew Acoya, AIA, Office of Facilities Management and Construction, P.O. Box 1248, Albuquerque, New Mexico 87103, (505) 346-6508, Fax (505) 346-6542.

SUPPLEMENTARY INFORMATION: Publication of the Education Facilities Replacement Construction Priority List (Priority List) in the Federal Register is required by 25 U.S.C. 2005(d) at the time any budget request for school construction is presented. In 2001, the Bureau began preparations for developing a new Priority List, including the acceptance of applications from Tribes and School Boards who wished to have schools placed on the Priority List.

Schools placed on the previously published “Education Facilities Construction Priority List as of FY 2000, With Additions,” published in the Federal Register on January 9, 2001 (66 FR 1689) that were not yet fully funded for construction (project numbers 18 through 20), did not have to submit applications for ranking on the new Priority List and are retained, in order, at the top of the FY 2003 Priority List as projects numbers 1 through 3. Education Facilities Construction projects on the Priority List will be funded for construction in the order in which they are ranked, as appropriations become available, unless a school is not ready for the next phase of funding. In accordance with Congressional directives, the projects do not provide for new school starts nor grade level expansions. The process does not provide for charter schools nor satellite extensions.

The Conference Report for the FY 1992 Interior Related Agencies Appropriations Act, H.R. Conf. Rep. No. 102-256, at 46 (1991), indicated that Congress wanted the Department to revise the priority ranking process for new school construction. The Bureau revised the process in March 1999 and again in May 2001, and developed draft revised instructions and criteria, complying with the 1991 Conference Report requirements that the BIA should emphasize tribal consultation and improve the objectivity of the ranking process, provide continuity to the priority ranking list, and provide procedures for handling emergency needs.

The Committee on Appropriations also recommended that the BIA establish a demonstration project to allow tribes with schools on the replacement list to apply for Federal funding with the guarantee of a cost share from the tribe, S. Rep. No. 106-99, at 54 (1999). Congress further stated that tribes may share the cost of construction of their school, identify non-Bureau funding to match or supplement Bureau funding, or pay future operations costs in exchange for the full funding of school construction costs earlier than they might hope to receive it under the Priority List. Accordingly, in the ranking process for the FY 2003 Priority List, applicants were provided an opportunity to indicate a commitment to cost share; however, none of the top ranked schools offered to do so.

The Bureau published in the Federal Register, on April 18, 2001 (66 FR 19979), a Notice of tribal consultation meeting May 1 through May 3, 2001, in Albuquerque, New Mexico, requesting comments on the draft revised instructions and criteria, entitled “Instructions and Application for Replacement School Construction, 2001.” The new instructions governed the priority ranking process for construction of replacement education facilities and the criteria used in ranking applications. In addition to fully replacing buildings and support structures at an educational facility, a new category, partial replacement construction, was included in the 2001 application process in response to earlier consultation comments. Under the new category, schools could submit partial replacement construction requests for replacement of a specific building or buildings instead of full facilities replacement, or the schools could request construction of components (e.g., libraries, gymnasiums, cafeterias) that do not currently exist at educational facilities but are nonetheless required to meet an approved educational accreditation program. After the Bureau completes further study and evaluation, a final determination will be made whether facilities projects added to the Priority List will be fully or partially replaced. Bureau requests for future funding of education facilities construction projects will not depend entirely on ranking order, but will also consider how full or partial replacement projects fit the availability of appropriations, and readiness for the next phase of funding.

Comments were also received relating to administrative requirements and responsibilities; definitions of ranking criteria; evaluation of applications; and cost-sharing. The comments were reviewed and incorporated into the final instructions and criteria as appropriate by a team consisting of tribal representatives and BIA employees from the Office of Indian Education Programs and the Office of Facilities Management and Construction. The Bureau proceeded with using the final revised application instructions and criteria on June 8, 2001.

Copies of the final revised instructions and ranking criteria with accompanying documents were sent to all BIA schools and schools that receive BIA funds under contract or grant, [Catalog of Federal Domestic Assistance Program Number: 15.062 “Replacement and Repair of Indian Schools”] and the Bureau held tribal consultation meetings in July and August 2001 on the revised process. BIA's Office of Indian Education Programs Education Line Officers offered training to applicants at all schools under their administrative jurisdiction on how to complete applications using the revised instructions and ranking criteria. Tribes and BIA-funded school boards received advance, written notice of training session dates, times, and locations for tribes and schools under their respective jurisdictions. The Bureau published another Notice in the Federal Register on June 11, 2001 (66 FR 31248), calling for applications based on the revised instructions and ranking criteria. The Bureau accepted applications beginning August 1, 2001, and used the criteria in the revised instructions to review and evaluate all applications that were received on or before the application deadline. The application deadline was extended to October 22, 2001, by a notice published in the Federal Register on August 20, 2001 (66 FR 43591), in response to requests of tribal organizations and school boards. These applications were evaluated and ranked according to the revised criteria stated in the application and, from the list of ranked schools, the first nine schools were placed on the FY 2003 Education Facilities Replacement Construction Priority List.

This notice is published under authority delegated by the Secretary of the Interior to the Assistant Secretary for Indian Affairs in the Departmental Manual at 209 DM 8.

Education Facilities Replacement Construction Priority List as of FY 2003

1. Turtle Mountain High School

2. Mescalero Apache School

3. Enemy Swim Day School

5. Navajo Preparatory School

6. Wingate High School

7. Pueblo Pintado Community School

8. Bread Springs Day School

9. Ojo Encino Day School

10. Chemawa Indian School

11. Beclabito Day School

12. Leupp School

Aurene Martin,
Acting Assistant Secretary—Indian Affairs.

[FR Doc. 03-17343 Filed 7-8-03; 8:45 am]

BILLING CODE 4210-72-P